DEPARTMENT OF COMMERCE

National Oceanic and Atmospheric Administration

RIN 0648-XE117

Groundfish Operational Assessment Public Meeting

AGENCY: National Marine Fisheries Service (NMFS), National Oceanic and Atmospheric Administration (NOAA), Commerce.

ACTION: Notice of public meeting.

SUMMARY: NMFS and the Northeast Regional Stock Assessment Workshop (SAW) will convene a peer review of Operational Stock Assessments of twenty fish stocks. These stocks are managed by the New England Fishery Management Council and are included within the Northeast Multispecies Fishery Management Plan. This will be a formal, scientific peer review of operational assessments, which incorporate recent data. Results of the review will be used as a basis for management decisions for fish stocks in U.S. waters of the northwest Atlantic. Assessments are prepared by stock assessment scientists primarily from the Northeast Fisheries Science Center and reviewed by a panel of stock assessment experts. The public is invited to attend the presentations and discussions by reviewers and scientists who have participated in the stock assessment process.

DATES: The public portion of the Stock Assessment Review Committee Meeting will be held from September 11, 2017, through September 15, 2017. The meeting will commence on September 11, 2017, at 9 a.m. Eastern Daylight Time. Please see SUPPLEMENTARY INFORMATION for the daily meeting agenda.

ADDRESSES: The meeting will be held in the S.H. Clark Conference Room in the Aquarium Building of the National Marine Fisheries Service, Northeast Fisheries Science Center (NEFSC), 166 Water Street, Woods Hole, MA 02543.

FOR FURTHER INFORMATION CONTACT: Sheena Steiner, 508-495-2177; email: sheena.steiner@noaa.gov; or James Weinberg, 508-495-2352; email: james.weinberg@noaa.gov

SUPPLEMENTARY INFORMATION: For further information, please visit the NEFSC Web site at http://www.nefsc.noaa.gov/.

Daily Meeting Agenda—Operational Assessments for 20 Groundfish Stocks *

Monday, September 11

9 a.m.-6 p.m.

Cod and Haddock stocks (Population Dynamics Branch)

Tuesday, September 12

9 a.m.-6 p.m.

Flounder stocks (Population Dynamics Branch)

Wednesday, September 13

9 a.m.-6 p.m.

Remaining Stocks (Population Dynamics)

Thursday, September 14

9 a.m-12 p.m.

Remaining Stocks (Population Dynamics)

12 p.m.-6 p.m.

Discussion/Public Comment (Panel/Leads)

Friday, September 15

9 a.m.-3:30 p.m.

Review of Species Summaries (Panel/Leads)

4 p.m.

Adjourn

* Subject to Change

Special Accommodations

This meeting is physically accessible to people with disabilities. Special requests should be directed to Sheena Steiner at the NEFSC, 508-495-2177, at least 5 days prior to the meeting date.

Dated: August 18, 2017.
Alan D. Risenhoover,
Director, Office of Sustainable Fisheries, National Marine Fisheries Service.

[FR Doc. 2017-17821 Filed 8-22-17; 8:45 am]

BILLING CODE 3510-22-P